DEPARTMENT OF DEFENSE

Defense Acquisition Regulations System

[Docket Number DARS-2018-0010; OMB Control Number 0704-0187]

Information Collection Requirement; Defense Federal Acquisition Regulation Supplement; Information Collection in Support of the DoD Acquisition Process (Various Miscellaneous Requirements); Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act.

DATES: Consideration will be given to all comments received by June 22, 2018.

SUPPLEMENTARY INFORMATION:

Title, Associated Form, and OMB Number: Information Collection in Support of the DoD Acquisition Process (Various Miscellaneous Requirements); OMB Control Number 0704-0187.

Affected Public: Businesses or other for-profit and not-for-profit institutions.

Respondent's Obligation: Required to obtain or retain benefits.

Type of Request: Revision of a currently approved collection.

Number of Respondents: 308.

Responses per Respondent: 1.

Annual Responses: 308.

Average Burden per Response: 2 hours.

Annual Burden Hours: 616.

Frequency: On occasion.

Needs and Uses: This information collection requirement pertains to information required in DFARS parts 208, 209, 235, and associated clauses in part 252 that an offeror must submit to DoD in response to a request for proposals or an invitation for bids or a contract requirement. DoD uses this information to—

• Determine whether to provide precious metals as Government-furnished material;

• Determine whether a foreign government owns or controls the offeror to prevent access to proscribed information;

• Determine whether there is a compelling reason for a contractor to enter into a subcontract in excess of $30,000 with a firm, or subsidiary of a firm, that is identified in the “List of Parties Excluded from Federal Procurement and Nonprocurement” as being ineligible for award of Defense subcontracts because it is owned or controlled by the government of a country that is a state sponsor of terrorism;

• Evaluate claims of indemnification for losses or damages occurring under a research and development contract; and

• Keep track of radio frequencies on electronic equipment under research and development contracts so that the user does not override or interfere with the use of that frequency by another user.

OMB Desk Officer: Ms. Jasmeet Seehra.

Comments and recommendations on the proposed information collection should be sent to Ms. Jasmeet Seehra, DoD Desk Officer, at Oira_submission@omb.eop.gov. Please identify the proposed information collection by DoD Desk Officer and the Docket ID number and title of the information collection.

You may also submit comments, identified by docket number and title, by the following method:

Federal eRulemaking Portal: http://www.regulations.gov. Follow the instructions for submitting comments.

DoD Clearance Officer: Mr. Frederick C. Licari.

Written requests for copies of the information collection proposal should be sent to Mr. Licari at: WHS/ESD Directives Division, 4800 Mark Center Drive, 2nd Floor, East Tower, Suite 03F09, Alexandria, VA 22350-3100.

Amy G. Williams,
Deputy, Defense Acquisition Regulations System.

[FR Doc. 2018-10905 Filed 5-22-18; 8:45 am]

BILLING CODE 5001-06-P